DEPARTMENT OF ENERGY

Federal Energy Regulatory Commission

[Docket No. PR17-60-002]

Notice Establishing Comment Period; Atmos Pipeline—Texas

On May 23, 2018, Federal Energy Regulatory Commission staff held an informal technical conference to discuss issues raised in the protests and comments regarding the January 25, 2018 filing made by Atmos Pipeline—Texas in the above-captioned docket. This notice establishes the comment periods for parties wishing to submit comments following the technical conference. All parties are invited to submit initial comments on or before Wednesday, June 13, 2018. Reply comments are due on or before Tuesday, July 3, 2018.

For more information, please contact Deirdra Archie at deirdra.archie@ferc.gov or (202) 502-6819.

Dated: May 29, 2018.
Kimberly D. Bose,
Secretary.

[FR Doc. 2018-12097 Filed 6-5-18; 8:45 am]

BILLING CODE 6717-01-P